ARCHITECTURAL AND TRANSPORTATION BARRIERS COMPLIANCE BOARD

Notice of Meeting

AGENCY: Architectural and Transportation Barriers Compliance Board.

ACTION: Notice of meeting.

SUMMARY: The Architectural and Transportation Barriers Compliance Board (Access Board) has scheduled its regular business meetings to take place in Washington, DC, on Tuesday and Wednesday, September 10-11, 2002, at the times and location noted below.

DATES: The schedule of events is as follows:

Tuesday, September 10, 2002

1:30-3 p.m.: Committee of the Whole—Questions and Answers on ADA/ABA Final Rule (Closed Session).

3:30-5 p.m.: Board Meeting.

Wednesday, September 11, 2002

9-Noon: Technical Programs Committee.

1:30-2:30 p.m.: Planning and Budget Committee

2:30-4:30 p.m.: Executive Committee.

ADDRESSES: The meetings will be held at the Marriott at Metro Center Hotel, 775 12th Street, NW., Washington, DC.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items.

Open Meeting

• Executive Director's Report.

• Approval of the July 10, 2002 Board Meeting Minutes.

• ADA and ABA Accessibility Guidelines.

All meetings are accessible to persons with disabilities. Sign language interpreters and an assistive listening system are available at all meetings. Persons attending Board meetings are requested to refrain from using perfume, cologne, and other fragrances for the comfort of other participants.

Lawrence W. Roffee,
Executive Director.

[FR Doc. 02-22011 Filed 8-28-02; 8:45 am]

BILLING CODE 8150-01-P